DEPARTMENT OF THE INTERIOR

Fish and Wildlife Service

[FWS-R4-ES-2017-N018; FXES11140400000-189-FF04EF2000]

Endangered and Threatened Wildlife and Plants; Receipt of Two Applications for Incidental Take Permits; Availability of Low-Effect Proposed Habitat Conservation Plans and Associated Documents; Polk County, FL

AGENCY: Fish and Wildlife Service, Interior.

ACTION: Notice of availability; request for comment/information.

SUMMARY: We, the Fish and Wildlife Service (Service), announce the availability for comment of two applications for incidental take permits (ITP) under the Endangered Species Act of 1973, as amended (Act). The City of Winter Haven and Savi Investments, LLC each request a separate ITP for take of the federally listed sand skink and blue-tailed mole skink, incidental to construction in Polk County, Florida. We request public comments on each of the applications and accompanying habitat conservation plans (HCPs), as well as on our preliminary determination that both HCPs qualify as low effect under the National Environmental Policy Act. To make these determinations, we used environmental action statements and low-effect screening forms, which are also available for review.

DATES: We must receive your written comments on the ITP applications and HCPs on or before April 18, 2018.

ADDRESSES:

Obtaining Documents: You may obtain a copies of the ITP applications and HCPs by writing to Ms. Elizabeth Landrum, South Florida Ecological Services Office, Attn: Permit number TE59397C-0 (for City of Winter Haven) and/or TE60480C-0 (for Savi Investments), U.S. Fish and Wildlife Service, 1339 20th Street, Vero Beach, FL 32960-3559, or by email to verobeach@fws.gov and put Permit number TE59397C-0 (for City of Winter Haven) and/or TE60480C-0 (for Savi Investments) in the subject line. We also will make the ITP applications and HCPs available for public inspection by appointment during normal business hours at the South Florida Ecological Services Office address.

Submitting Comments: See Submitting Comments under SUPPLEMENTARY INFORMATION.

FOR FURTHER INFORMATION CONTACT: Ms. Elizabeth Landrum, South Florida Ecological Services Office (see ADDRESSES); telephone: 772-469-4304.

SUPPLEMENTARY INFORMATION: We, the Fish and Wildlife Service (Service), announce the availability for comment of two applications for incidental take permits (ITP) under the Endangered Species Act of 1973, as amended (16 U.S.C. 1531 et seq.; Act). The City of Winter Haven and Savi Investments, LLC each request a separate ITP for take of the federally listed sand skink (Neoseps reynoldsi) and the blue-tailed mole skink (Eumeces egregius lividus), incidental to construction in Polk County, Florida. We request public comments on each of the applications and accompanying habitat conservation plans (HCPs), as well as on our preliminary determination that both HCPs qualify as low effect under the National Environmental Policy Act. To make these determinations, we used environmental action statements and low-effect screening forms, which are also available for review. The Service listed the both skink species as threatened in 1987 (November 6, 1987; 52 FR 42658, effective December 7, 1987).

Background

Section 9 of the ESA and our implementing regulations in the Code of Federal Regulations (CFR) at 50 CFR part 17 prohibit the “take” of fish or wildlife species listed as endangered or threatened. Take of listed fish or wildlife is defined under the Act as “to harass, harm, pursue, hunt, shoot, wound, kill, trap, capture, or collect, or to attempt to engage in any such conduct” (16 U.S.C. 1532(19)). However, under limited circumstances, we issue permits to authorize incidental take—i.e., take that is incidental to, and not the purpose of, the carrying out of an otherwise lawful activity.

Regulations governing incidental take permits for endangered and threatened species are at 50 CFR 17.22 and 17.32, respectively. The Act's take prohibitions do not apply to federally listed plants on private lands unless such take would violate State law. In addition to meeting other criteria, the take authorized by an incidental take permit must not jeopardize the existence of federally listed fish, wildlife, or plants.

Applicants' Proposed Projects

City of Winter Haven

The City of Winter Haven, Florida (TE59397C-0) is requesting a 2-year ITP for take incidental to construction of the Lake Maude Community Recreational Complex and associated infrastructure on a 24.7-acre parcel in Polk County, Florida. The project site is located in Section 21, Township 28 South, Range 26 East of the County. The project would permanently alter 0.36 acres of the species' feeding, breeding, and sheltering habitat. The City of Winter Haven proposes to mitigate for impacts to the covered species by purchasing 0.72 mitigation credits from a Service-approved conservation bank.

Savi Investments, LLC

Savi Investments, LLC requests a 10-year ITP for take of the covered species incidental to land preparation and construction of Madera Park Phase II, a single-family residential development, and associated infrastructure on a 5.7-acre parcel in Polk County, Florida. Savi Investments, LLC's project site is located in Section 12, Township 25 South, Range 26 East of the County. The project would permanently alter 1.2 acres of the species' feeding, breeding, and sheltering habitat. Savi Investments, LLC proposes to purchase 2.4 mitigation credits from a Service-approved conservation bank to mitigate for impacts to the covered species.

Our Preliminary Determination

We have made a preliminary determination that both of the applicants' projects, including the mitigation measures, will individually and cumulatively have a minor or negligible effect on the covered species and the environment, so as to be “low effect” and qualify for categorical exclusion under the National Environmental Policy Act (NEPA), as provided by 43 CFR 46.205 and 43 CFR 46.210. Our preliminary determinations that issuance of the ITPs qualifies as low effect are based on the following three criteria: (1) Implementation of the projects would result in minor or negligible effects on federally listed, proposed, and candidate species and their habitats; (2) Implementation of the projects would result in minor or negligible effects on other environmental values or resources; and (3) Impacts of the projects, considered together with the impacts of other past, present, and reasonably foreseeable similarly situated projects, would not result over time in significant cumulative effects to environmental values or resources. These preliminary determinations may be revised based on our review of the public comments submitted in response to this notice.

Next Steps

We will evaluate each HCP and comments submitted to determine whether each application meets the requirements of section 10(a) of the Act. We will also conduct an intra-Service consultation on each application to evaluate take of the covered species in accordance with section 7 of the Act. We will use the results of each consultation, in combination with the above findings, in our analyses of whether or not to issue the ITPs. If it is determined that the requirements of the Act are met as to either or both applications, the associated ITP will be issued.

Submitting Comments

If you wish to comment on the ITP applications or HCPs, you may submit comments by any one of the following methods. Make sure to put the appropriate permit number in your email subject line or in your fax (i.e., City of Winter Haven/TE59397C-0 and/or Savi Investments/TE60480C-0).

Email: verobeach@fws.gov.

Fax: Elizabeth Landrum, 772-562-4288.

U.S. mail: See ADDRESSES.

In-person drop-off: You may drop off comments or request information during regular business hours at the address in ADDRESSES.

Public Availability of Comments

Before including your address, phone number, email address, or other personal identifying information in your comments, you should be aware that your entire comment—including your personal identifying information—may be made publicly available at any time. While you can request in your comments that your personal identifying information be withheld from public review, we cannot guarantee that we will be able to do so.

Authority

We provide this notice under Section 10 of the Endangered Species Act (16 U.S.C. 1531 et seq.) and NEPA regulations (40 CFR 1506.6).

Roxanna Hinzman,
Field Supervisor, South Florida Ecological Services Office.

[FR Doc. 2018-05592 Filed 3-15-18; 4:15 pm]

BILLING CODE 4333-15-P